Proclamation 10739 of April 30, 2024

National Mental Health Awareness Month, 2024

By the President of the United States of America

A Proclamation

During National Mental Health Awareness Month, we recognize the bravery and resilience of the tens of millions of Americans living with mental health conditions, and we show our gratitude for the dedicated mental health professionals and devoted loved ones who stand by them every step of the way. Mental health care is health care, and my Administration will ensure that every American has the care they need to thrive—we have your back.

Being able to get health care when you need it is essential to living a full, productive, and healthy life—that goes for mental health care too. Mental health care can help people find joy and purpose; ensuring they have access to the care they need is about dignity. But for millions of Americans, mental health care is out of reach. In 2020, less than half of all adults with a mental illness diagnosis received care for it. It is worse for kids—nearly 70 percent of children who need mental health care cannot get it. Imagine being a parent searching for a way to help their child but never finding it, no matter how hard they look. This is an all-too-common experience as many Americans face mental health challenges: Two in five adults report experiencing anxiety or depression, and suicide is a leading cause of death among young people. We know that mental health treatment works, but we need to make it more accessible and affordable for all Americans.

That is why, as President, I have taken steps to dramatically expand access to mental health care in America. I signed the Bipartisan Safer Communities Act—the largest investment in youth mental health ever, and we are investing $1 billion of that funding to help schools across the country hire and train new mental health counselors. We also added more than 140 Certified Community Behavioral Health Clinics across the Nation, which serve everyone regardless of their ability to pay and provide a range of services, including 24-hour crisis support. We launched 988, the Nationwide Suicide and Crisis Lifeline, which anyone can call, text, or chat to be connected to a trained crisis counselor. Further, my Administration developed new resources to support the mental health and resilience of frontline workers; expanded Medicare coverage to include additional substance use disorder services and expand mental health services; made it easier for schools to leverage Medicaid to deliver mental health care to millions of children and youth; and invested in mental health programs that help service members and veterans as well as their families, caregivers, and survivors.

We are also working to ensure full mental health parity so that mental health care is covered the same as physical health care. We have proposed requiring health insurance plans to identify the gaps in the mental health care they provide, and if they find they are not covering mental health care on par with physical health care, to make changes to fix it. Finally, we are taking action to ensure that State and local government employees have the same mental health parity protections as millions of other Americans who get health insurance from their jobs, which is why we are working to close loopholes so these dedicated public servants can more easily access the mental health care they need with fewer limits on care and lower co-pays.

At the same time, my Administration is working to end the opioid and overdose epidemic by cracking down on fentanyl trafficking and increasing public health efforts to save lives. This month, we celebrate the absolute courage of the Americans in recovery and reaffirm our commitment to care for those suffering.

My Administration will also keep fighting to end the youth mental health crisis—and that means addressing social media's contributions to it. I continue to call on the Congress to restrict the personal data that companies collect, ban advertising that targets minors, and take action to ensure that social media platforms prioritize the health and safety of our Nation's children.

Each one of us has a role to play in changing the narrative and ending the stigmatization of mental health issues. We can start by showing compassion so everyone feels free to ask for help and learning the warning signs of emotional distress and suicide. If you are facing a crisis, dial 988 to reach the National Suicide and Crisis Lifeline. If you are a new or expecting mother, you can call 1-833-TLC-MAMA for confidential advice on mental health from a professional. If you are feeling overwhelmed or just need someone to talk to, ask your health care provider, contact the Substance Abuse and Mental Health Services Administration's National Helpline at 1-800-662-HELP, or visit FindSupport.gov. To anyone struggling with mental health, know that you are not alone. As Americans, we have a duty of care to reach out to one another and leave no one behind. We are all in this together.

NOW, THEREFORE, I, JOSEPH R. BIDEN JR., President of the United States of America, by virtue of the authority vested in me by the Constitution and the laws of the United States, do hereby proclaim May 2024 as National Mental Health Awareness Month. I call upon citizens, government agencies, private businesses, nonprofit organizations, and other groups to join in activities and take action to strengthen the mental health of our communities and our Nation.

IN WITNESS WHEREOF, I have hereunto set my hand this thirtieth day of April, in the year of our Lord two thousand twenty-four, and of the Independence of the United States of America the two hundred and forty-eighth.

[FR Doc. 2024-09819

Filed 5-2-24; 8:45 am]

Billing code 3395-F4-P